DEPARTMENT OF EDUCATION

[Docket No.: ED-2022-SCC-0011]

Supplemental Support Under the American Rescue Plan (SSARP) Application; Correction

AGENCY: Office of Postsecondary Education (OPE), Department of Education (ED).

ACTION: Correction notice.

On February 8, 2022, the U.S. Department of Education published a correction notice in the Federal Register (Vol. 87, No 26, Page 7163, Column 2) seeking to correct the public comment period closing date for an information collection entitled, “Supplemental Support under the American Rescue Plan (SSARP) Application.” The Docket Number for the correction (ED-2020-SCC-0011), is incorrect, and the correct Docket Number is ED-2022-SCC-0011.

The PRA Coordinator, Strategic Collections and Clearance, Office of the Chief Data Officer, Office of Planning, Evaluation and Policy Development, hereby issues a correction notice as required by the Paperwork Reduction Act of 1995.

Dated: February 8, 2022.
Kate Mullan,
PRA Coordinator, Strategic Collections and Clearance Office of the Chief Data Officer, Office of Planning, Evaluation and Policy Development.

[FR Doc. 2022-02997 Filed 2-10-22; 8:45 am]

BILLING CODE 4000-01-P